DEPARTMENT OF ENERGY

Federal Energy Regulatory Commission

Combined Notice of Filings #1

Take notice that the Commission received the following exempt wholesale generator filings:

Docket Numbers: EG25-37-000.

Applicants: Camino Solar, LLC, Bracewell LLP.

Description: Camino Solar, LLC submits Notice of Self-Certification of Exempt Wholesale Generator Status.

Filed Date: 11/15/24.

Accession Number: 20241115-5270.

Comment Date: 5 p.m. ET 12/6/24.

Take notice that the Commission received the following Complaints and Compliance filings in EL Dockets:

Docket Numbers: EL25-18-000.

Applicants: Illinois Attorney General's Office, Illinois Citizens Utility Board, Maryland Office of People's Counsel, New Jersey Division of Rate Counsel, Office of the Ohio Consumers' Counsel, Office of the People's Counsel for the District of Columbia, Joint Consumer Advocates v. PJM Interconnection, L.L.C.

Description: Complaint of Joint Consumer Advocates v. PJM Interconnection, L.L.C.

Filed Date: 11/18/24.

Accession Number: 20241118-5200.

Comment Date: 5 p.m. ET 12/9/24.

Take notice that the Commission received the following electric rate filings:

Docket Numbers: ER24-1559-002.

Applicants: Puget Sound Energy, Inc.

Description: Compliance filing: Amendment to Order 2023-A Pursuant to Errata Notice to be effective 12/31/9998.

Filed Date: 11/19/24.

Accession Number: 20241119-5081.

Comment Date: 5 p.m. ET 12/10/24.

Docket Numbers: ER25-7-000.

Applicants: Cascade Energy Storage II LLC.

Description: Supplement to 10/01/2024, Cascade Energy Storage II LLC tariff filing.

Filed Date: 11/15/24.

Accession Number: 20241115-5275.

Comment Date: 5 p.m. ET 11/25/24.

Docket Numbers: ER25-236-001.

Applicants: Mid-Atlantic Interstate Transmission, LLC, PJM Interconnection, L.L.C.

Description: Tariff Amendment: Mid-Atlantic Interstate Transmission, LLC submits tariff filing per 35.17(b): MAIT Amendment to Amended SA No. 6412 Interconnection Agreement in ER25-236 to be effective 12/23/2024.

Filed Date: 11/18/24.

Accession Number: 20241118-5191.

Comment Date: 5 p.m. ET 12/9/24.

Docket Numbers: ER25-475-000.

Applicants: Diversion Wind Energy LLC.

Description: Tariff Amendment: Notice of Cancellation of Market Based Rate Tariff to be effective 12/31/9998.

Filed Date: 11/19/24.

Accession Number: 20241119-5065.

Comment Date: 5 p.m. ET 12/10/24.

Docket Numbers: ER25-476-000.

Applicants: Public Service Company of Colorado.

Description: § 205(d) Rate Filing: 2024-11-19—PSC—UPI—T-2024-9—Bonnet—SISA—854—0.0.0 to be effective 1/18/2025.

Filed Date: 11/19/24.

Accession Number: 20241119-5077.

Comment Date: 5 p.m. ET 12/10/24.

Docket Numbers: ER25-477-000.

Applicants: Mitsui & Co. Energy Marketing and Services (USA), Inc.

Description: Compliance filing: Compliance filing 2024 to be effective 11/20/2024.

Filed Date: 11/19/24.

Accession Number: 20241119-5079.

Comment Date: 5 p.m. ET 12/10/24.

Docket Numbers: ER25-478-000.

Applicants: Public Service Company of Colorado.

Description: § 205(d) Rate Filing: 2024-11-19—PSC—UPI—T-2024-10—Bowler—SISA—855—0.0.0 to be effective 1/18/2025.

Filed Date: 11/19/24.

Accession Number: 20241119-5082.

Comment Date: 5 p.m. ET 12/10/24.

Docket Numbers: ER25-479-000.

Applicants: Midcontinent Independent System Operator, Inc., American Transmission Company LLC.

Description: § 205(d) Rate Filing: Midcontinent Independent System Operator, Inc. submits tariff filing per 35.13(a)(2)(iii): 2024-11-19_SA 4397 ATC-WEPCo E&P (Oak Creek) to be effective 1/20/2025.

Filed Date: 11/19/24.

Accession Number: 20241119-5089.

Comment Date: 5 p.m. ET 12/10/24.

Docket Numbers: ER25-480-000.

Applicants: PJM Interconnection, L.L.C.

Description: § 205(d) Rate Filing: Original GIA, SA No. 7402; Project Identifier AG1-188 to be effective 10/21/2024.

Filed Date: 11/19/24.

Accession Number: 20241119-5091.

Comment Date: 5 p.m. ET 12/10/24.

Docket Numbers: ER25-481-000.

Applicants: San Diego Gas & Electric.

Description: § 205(d) Rate Filing: Amendment 1 for WDAT SGIA for Kearny 251 to be effective 11/20/2024.

Filed Date: 11/19/24.

Accession Number: 20241119-5136.

Comment Date: 5 p.m. ET 12/10/24.

Docket Numbers: ER25-482-000.

Applicants: National Grid Generation LLC.

Description: Compliance filing: Petition for Expedited Approval of Settlement to be effective N/A.

Filed Date: 11/19/24.

Accession Number: 20241119-5141.

Comment Date: 5 p.m. ET 12/10/24.

Docket Numbers: ER25-483-000.

Applicants: San Diego Gas & Electric.

Description: § 205(d) Rate Filing: Amendment 1 for WDAT SGIA for Kearny 252 to be effective 11/20/2024.

Filed Date: 11/19/24.

Accession Number: 20241119-5143.

Comment Date: 5 p.m. ET 12/10/24.

The filings are accessible in the Commission's eLibrary system (https://elibrary.ferc.gov/idmws/search/fercgensearch.asp) by querying the docket number. Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 19, 2024.
Carlos D. Clay,
Acting Deputy Secretary.

[FR Doc. 2024-27606 Filed 11-25-24; 8:45 am]

BILLING CODE 6717-01-P